NUCLEAR REGULATORY COMMISSION

Advisory Committee on Reactor Safeguards; Revisions

The agenda for the 485th ACRS meeting, scheduled to be held on September 5-8, 2001, has been revised to reflect the changes noted below. Notice of this meeting was previously published in the Federal Register on Thursday, August 16, 2001 (66 FR 43035).

Wednesday, September 5, 2001

• The discussion of Reconciliation of ACRS Comments and Recommendations has been rescheduled to Wednesday, September 5, 2001, between 1:00 p.m. and 1:30 p.m.

• The discussion of the Thermal-Hydraulics Phenomena Subcommittee has been rescheduled to Wednesday, September 5, 2001, between 1:30 p.m. and 2:00 p.m.

• The discussion time of the Reactor Oversight Process has been rescheduled between 2:30 p.m. and 4:00 p.m.

• The preparation of ACRS reports will start at 4:00 p.m. instead of 2:50 p.m. as previously announced.

All other items for September 5, 2001 meeting remain the same as previously announced in the Federal Register on Thursday, August 16, 2001 (66 FR 43035).

Thursday, September 6, 2001

• The discussion of Peer Review of PRA Certification Process has been rescheduled to Thursday, September 6, 2001, between 8:35 and 9:00 a.m.

All other items for September 6, 2001 meeting remain the same as previously announced in the Federal Register on Thursday, August 16, 2001 (66 FR 43035).

FOR FURTHER INFORMATION CONTACT: Dr. Sher Bahadur (telephone 301-415-0138), between 7:30 a.m. and 4:15 p.m., EDT.

Dated: August 17, 2001.
Andrew L. Bates,
Advisory Committee Management Officer.

[FR Doc. 01-21285 Filed 8-22-01; 8:45 am]

BILLING CODE 7590-01-P